DEPARTMENT OF TRANSPORTATION

Federal Highway Administration

Environmental Impact Statement: Albuquerque, New Mexico

AGENCY: Federal Highway Administration (FHWA), USDOT.

ACTION: Rescind Notice of Intent.

SUMMARY: The FHWA is rescinding the notice of intent to prepare an environmental impact statement for the proposed improvements to the Interstate 25 and Paseo del Norte Interchange in Albuquerque, New Mexico.

FOR FURTHER INFORMATION CONTACT: Greg Heitmann, Environmental Specialist, Federal Highway Administration, New Mexico Division, 4001 Office Court Drive, Suite 801, Santa Fe, New Mexico 87507, Telephone (505) 820-2027.

SUPPLEMENTARY INFORMATION: The FHWA, in cooperation with the New Mexico Department of Transportation (NMDOT), is rescinding the Notice of Intent to prepare an Environmental Impact Statement (EIS) for the proposed improvements to the Interstate 25 (I-25) and Paseo del Norte (PDN) Interchange in Albuquerque, New Mexico. The original project proposal resulted in a Draft Environmental Impact Statement (DEIS) with estimated construction costs in excess of $350 million. Given the circumstances of economic conditions nationally and within the state of New Mexico it became highly evident that the proposed alternatives would not be feasible.

Based on the comments received at the public hearing, results of the continuing study, as well as alternative concept work performed by the City of Albuquerque with input from the NMDOT, a new alternative resulted. The new alternative with a conceptual cost of $93 million is contained in a much smaller footprint and addresses the level of service on I-25; this solution is a workable incremental approach that can be integrated into the region's long range plan for this sector of the Albuquerque Metropolitan Area.

Project Funding is being gathered through Federal, state, and local sources. The New Mexico State Legislature and Governor passed and signed a funding bill that pursues a design-build method for the project. Other sources of funding include: Congestion Mitigation Air Quality (CMAQ) funds as well as Transportation Improvement Program funds from FHWA, City of Albuquerque funds, and Bernalillo County funds. TIGER IV grant funds from the USDOT are also being sought to fund the project.

The project will proceed under a design and build procurement process. A consultant has been awarded the contract under the direction of the NMDOT. The preferred alternative and the focus of the project are the northbound I-25 to westbound PDN movement and the eastbound PDN to southbound I-25 movement as identified by the previous DEIS. These improvements are at the center of the proposed work and project development will proceed under the direction of the NMDOT. The preliminary engineering associated with the preferred alternative will be completed by the NMDOT's consultant. The following elements must be completed prior to procuring a Design and Build contractor: (a) Identify and develop the right of way needs and mapping in order for the NMDOT to acquire the necessary rights of way. (b) Develop and obtain the necessary environmental documentation; it is currently anticipated that a Categorical Exclusion will be completed for the proposed improvements. Extensive public involvement will be part of the National Environmental Policy Act (NEPA). If necessary, an Environmental Assessment (EA) may be considered to complete the NEPA decision-making components. (c) Complete the required Interchange Access Change Request (IACR) to support the new interchange alternative.

The new interchange improvements will have to take into account the following: (a) There are improvements that will be required on both PDN and I-25. These improvements are not independent of each other. There are also improvements along the northbound and/or southbound I-25 and at the PDN/Jefferson intersection that will need to be in place before any of the interchange flyovers are constructed. (b) The alternative must demonstrate that it minimizes the features that do not fit into the project design (reduce sacrificial construction or roadway features that would be torn down during future phases). (c) The alternative must demonstrate that it improves the operation of I-25 as well as PDN and improves traffic flow in the roadway network surrounding the project area.

Finally, the project timelines indicate a preliminary engineering effort, including NEPA documentation, of 6-12 months. It is anticipated that construction would commence in June of 2013.

(Catalog of Federal Domestic Assistance Program Number 20.205, Highway Planning and Construction. The regulations implementing Executive Order 12372 regarding intergovernmental consultation on Federal programs and activities apply to this proposed program.)

Issued on March 26, 2012.
J. Don Martinez.
Division Administrator, Federal Highway Administration, Santa Fe, New Mexico.

[FR Doc. 2012-8216 Filed 4-4-12; 8:45 am]

BILLING CODE 4910-22-P